ENVIRONMENTAL PROTECTION AGENCY

[OW-2003-0078, FRL-7585-2]

Agency Information Collection Activities: Proposed Collection; Comment Request; Reporting Requirements Under EPA's National Wastewater Operator Training and Technical Assistance Program, EPA ICR 1977.02, OMB Control Number 2040-0238

AGENCY: Environmental Protection Agency (EPA).

ACTION: Notice.

SUMMARY: In compliance with the Paperwork Reduction Act (44 U.S.C. 3501 et seq.), this document announces that EPA is planning to submit the following proposed Information Collection Request (ICR) renewal to the Office of Management and Budget (OMB): National Wastewater Operator Training and Technical Assistance Program, EPA ICR Number 1977.02, and OMB Control Number 2040-0238, expiring 09/30/2004. Before submitting the ICR to OMB for review and approval, EPA is soliciting comments on specific aspects of the proposed information collection as described below.

DATES: Comments must be submitted on or before January 9, 2004.

ADDRESSES: Submit your comments, referencing docket ID number OW-2003-0078, to EPA online using EDOCKET (our preferred method), by email to: OW_docket@epa.gov, or by mail to: EPA Docket Center, Environmental Protection Agency, Mailstop 4101T, 1200 Pennsylvania Ave. NW., Washington, DC 20460. Interested persons may obtain a copy of the ICR and supporting analysis without charge by contacting the individual listed below.

FOR FURTHER INFORMATION CONTACT: Margaret Dodds, Telephone: (202) 564-0728. Facsimile Number: (202) 501-2396. E-mail: dodds.margaret@epa.gov. 1200 Pennsylvania Ave. NW., MS 4204-M, Washington, DC 20460.

SUPPLEMENTARY INFORMATION: EPA has established a public docket for this ICR under Docket ID number OW-2003-0078, which is available for public viewing at the Water Docket in the EPA Docket Center (EPA/DC), EPA West, Room B102, 1301 Constitution Ave. NW., Washington, DC. The EPA Docket Center Public Reading Room is open from 8:30 a.m. to 4:30 p.m., Monday through Friday, excluding legal holidays. The telephone number for the Reading Room is (202) 566-1744, and the telephone number for the OW Docket is (202) 566-2426. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice, and according to the following detailed instructions: (1) Submit your comments to EPA online using EDOCKET (our preferred method), by e-mail to: OW_docket@epa.gov, or by mail to: EPA Docket Center, Environmental Protection Agency, Mailstop 4101T, 1200 Pennsylvania Ave. NW., Washington, DC 20460.

EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket, and will not be available for public viewing in EDOCKET. For further information about the electronic docket, see EPA's Federal Register notice describing the electronic docket at 67 FR 38102, or go to http://www.epa.gov/edocket.

Affected entities: Entities potentially affected by this action are state and local governments, state and county colleges, and those organizations which provide training assistance through the Clean Water Act 104(g)(1) Program to municipal wastewater treatment plants.

Title: National Wastewater Operator Training and Technical Assistance Program. (OMB Control No. 2040-0238. EPA ICR No.: 1977.02, expiring 09/30/2004.

Abstract: The Wastewater Operator Training Program provides on-site technical assistance to municipal wastewater treatment plants. Information will be collected from the network of forty-six 104(g)(1) training centers set up throughout the United States. The information will be collected to identify the facilities assisted, the different types of assistance the program provides and the environmental outcomes and benefits of the assistance provided by the program. The information will be collected and submitted on either an annual or semi-annual basis. A Microsoft Access database and a Lotus 1-2-3 spreadsheet have been developed for this purpose. This ICR will be used by EPA for the technical and financial management of the 104(g)(1) Program. It is strongly suggested that the 104(g)(1) Program training centers participate in the information collection although it is not mandatory. All information in the data system will be made public upon request. An agency may not conduct or sponsor, and a person is not required to respond to, a collection of information unless it displays a currently valid OMB control number. The OMB control numbers are listed in the Code of Federal Regulations title 40, part 9 and in the Code of Federal Regulations title 48, chapter 15.

The EPA would like to solicit comments to:

(i) Evaluate whether the proposed collection of information is necessary for the proper performance of the functions of the agency, including whether the information will have practical utility;

(ii) evaluate the accuracy of the agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement: The projected combined annual burden hours of this ICR to all respondents will be approximately 512 hours. The average annual burden hours to each 104(g)(1) training center grantee will be 7 hours, for a total of 322 hours per year, at an annual cost of $9717.96 (assuming an average hourly salary of $30.18). The average annual burden hours to the EPA's Regional Offices and Headquarters will be 16 hours each, for a total of 176 burden hours per year, at an annual cost of $6899.20 (assuming an average hourly salary of $39.20).

Data will be collected on an annual basis, in May of each year, for the Microsoft Access database collection, and data for the Lotus 1-2-3 spreadsheet information collection will be done on a bi-annual basis, in May and November of each year. Although this information collection is not mandatory, it is expected that 100% of the 104(g) training centers will respond to this collection request. All forty-six (46) training centers and EPA have the necessary equipment, desk-top computers and software to collect and manage this information. There will be no additional start-up or maintenance costs associate with this project to perform this information collection request. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: October 24, 2003.
Jane S. Moore,
Acting Director, Office of Wastewater Management.

[FR Doc. 03-28215 Filed 11-7-03; 8:45 am]

BILLING CODE 6560-50-P